DEPARTMENT OF COMMERCE

National Oceanic and Atmospheric Administration

[Docket No. 990810211-1294-02]

RIN 0648-ZA69

Sea Grant Fellowships: National Marine Fisheries Service—Sea Grant Joint Graduate Fellowship Program in Population Dynamics and Marine Resource Economics; and Sea Grant—Industry Fellowship Program: Request for Applications for FY 2002

AGENCY: National Sea Grant College Program, National Oceanic and Atmospheric Administration, Department of Commerce.

ACTION: Notice of request for applications.

SUMMARY: The purpose of this notice is to advise the public that the National Sea Grant College Program (Sea Grant) is seeking applications for two fellowship programs to fulfill its broad educational responsibilities, to strengthen the collaboration between Sea Grant and the National Marine Fisheries Service (NMFS), and to strengthen ties between academia and industry:

(1) The NMFS—Sea Grant Joint Graduate Fellowship Program in Population Dynamics and Marine Resource Economics (Fisheries Fellowship Program), which is available to U.S. citizens who are graduate students enrolled in PhD degree programs in academic institutions in the United States and its territories, with required institutional matching funds, expects to support six new Fisheries Fellows in Population Dynamics and Marine Resource Economics in FY 2002. Fisheries Fellows will work on thesis problems of public interest and relevance to NMFS and have summer internships at participating NMFS Science Centers or Laboratories under the guidance of NMFS mentors.

(2) The Sea Grant—Industry Fellowship Program (Industry Fellowship Program), which is available to graduate students enrolled in either MS or PhD degree programs in academic institutions in the United States and its territories, with required matching funds from private industrial sponsors, expects to support five new Industry Fellows in FY 2002. Industry Fellows will work on research and development projects on topics of interest to a particular industry/company. In a true partnership, the student, the faculty advisor, the Sea Grant College or institute, and the industry representative will work together, sharing research facilities and the cost of the activity.

DATES: Applications must be received by 5 pm (local time) on February 15, 2002 by a state Sea Grant Program (or by the NSGO in the case of an academic institution in a non-Sea Grant state). Note that applications arriving after these deadlines will be accepted for review only if the applicant can document that the application was provided to a delivery service that guaranteed delivery (see “Addresses” below) prior to the specified closing date and time; in any event, applications received by the NSGO or the State Sea Grant Programs later than two business days following the closing date will not be accepted. Facsimile transmissions and electronic mail submission of applications will not be accepted. It is anticipated that successful applicants will be able to initiate Fisheries Fellowships on approximately June 1, 2002 or Industry Fellowships on approximately September 1, 2002.

ADDRESSES: Applications originating from academic institutions in Sea Grant states must be submitted to the state Sea Grant Program. Applications originating elsewhere may be submitted either to the nearest state Sea Grant Program or directly to the NSGO. Sea Grant's web site lists the addresses of the state Sea Grant College Program directors (http://www.nsgo.seagrant.org/SGDirectors.html) and the participating NMFS Facilities (http://www.nsgo.seagrant.org/research/rfp/NMFS_Labs.html), or those addresses may also be obtained by contacting the NSGO. Applications submitted to the NSGO should be addressed to: National Sea Grant Office, R/SG, Attn: Mrs. Geraldine Taylor, Proposal Processing, Room 11732, NOAA, 1315 East-West Highway, Silver Spring, MD 20910 (telephone number for express mail applications is 301-713-2445).

FOR FURTHER INFORMATION CONTACT: Information about the Fisheries Fellowship Program may be obtained from Dr. Emory D. Anderson, National Sea Grant College Program, 1315 East-West Highway, Silver Spring, MD 20910; tel: (301) 713-2435 ext. 144; e-mail: emory.anderson@noaa.gov; from any state Sea Grant Program (see ADDRESSES); or from any participating NMFS facility (see ADDRESSES). Information about the Industry Fellowship Program may be obtained from Dr. Vijay G. Panchang, National Sea Grant College Program, 1315 East-West Highway, Silver Spring, MD 20910; tel: (301) 713-2435 ext. 142; e-mail: vijay.panchang@noaa.gov.

SUPPLEMENTARY INFORMATION:

National Marine Fisheries Service—Sea Grant Joint Graduate Fellowship Program in Population Dynamics and Marine Resource Economics and Sea Grant—Industry Fellowship Program

I. Program Authority

Authority: 33 U.S.C. 1127. Catalog of Federal Domestic Assistance Number: 11.417, Sea Grant Support.

II. Description of Programs

A. Fisheries Fellowship Program

The National Sea Grant Office (NSGO) and the National Marine Fisheries Service (NMFS) established a new Graduate Fellowship Program in Population Dynamics and Marine Resource Economics (Fisheries Fellowship Program) in 1999. The intent of the Fisheries Fellowship Program is to award fellowships to four students each year who are intereted in careers related to (1) the population dynamics of living marine resources and the development and implementation of quantitative methods for assessing their status, and (2) the economics of the conservation and management of living marine resources. Two new fellowships were to be awarded each year in each of the above two disciplines resulting in an anticipated six students per discipline to be supported annually when the Fisheries Fellowship Program reached its maximum level three years following its inception.

For the FY 2002 competition now being announced, funds are available to award six new fellowships in the two disciplines combined, with a potential maximum of four in one of the two disciplines.

The goals of the Fisheries Fellowship Program are to (1) encourage qualified applicants to pursue careers in (a) population dynamics and stock assessment methodology or (b) marine resource economics; (2) increase available expertise related to (a) the population dynamics and assessment of the status of the stocks of living marine resources or (b) economic analysis of living marine resource conservation and management decisions; (3) foster closer relationships between academic scientists and NMFS; and (4) provide real-world experience to graduate students and accelerate their career development.

The fellowships will provide support for up to three years for highly qualified graduate students working towards a PhD in population dynamics or related fields of study and for up to two years for highly qualified graduate students working towards a PhD in marine resource economics, natural resource economics, or environmental economics. Continued support after the first year will be contigent upon the availability of Federal funds and satisfactory performance by the Fellow. In addition to his/her faculty adviser, each Fellow will be required to work closely with an expert (mentor) from NMFS who will provide data for the Fellow's thesis, serve on the Fellow's committee, and host an annual summer internship at the participating NMFS facility.

Mentors will be from participating NMFS Science Centers or Laboratories. Each Fellow will be required to work as a summer intern at the participating NMFS facility either on his/her thesis or on appropriate related problems. Remuneration for the summer internship will be part of the annual award. Population Dynamics Fellows will also be expected to spend 10-20 days at sea per year learning about sampling techniques and problems, commercial fishing, fishery biology, and local and regional issues of importance to fisheries management. Fellows may also work, as necessary, at the participating NMFS facility during some or all of the academic year at the mutual discretion of mentor, faculty adviser, and Fellow.

Newly-selected Fellows must submit a one-page description of their thesis research or assignment based on discussions involving mentor, faculty adviser, and Fellow to the Fisheries Fellowship Program Manager by April 30, 2002. The thesis research or assignment description must reflect a clear mutual understanding of the substantive dimensions of the project and its expected results.

Fellows must, for each year of their fellowship, provide a written summary of their accomplishments and activities during the preceding year to the Fisheries Fellowship Program Manager. This summary must accompany the request for each additional year's funding. Fellows will be expected to present a review of their research during the annual Fellows Meeting held in the spring in Silver Spring, MD.

The award for each Fisheries Fellowship, contingent upon the availability of Federal funds, will be in the form of a grant or cooperative agreement of up to $38,000 per year, 50 percent (up to $19,000) of which will be contributed by NMFS, 33⅓ percent (up to $12,667) by the NSGO, and 16⅔ percent (up to $6,333) by the acadamic institution as the required 50 percent match of NSGO funds. The portion of the award provided to each Fellow for salary (stipend), living expenses (per diem), tuition (unless waived), health insurance and other institution fees, and travel necessary to carry out the proposed thesis research and to attend the annual Fellows Meeting in the spring in Silver Spring, MD will be determined and distributed by the institution in accordance with its guidelines.

B. Industry Fellowship Program

Today's global economy is putting unprecendented demands on the U.S. industrial community for innovation and new technology. This situation presents challenges to industry and academic institutions to develop new paradigms leading to more efficient utilization of available human, fiscal, and technical resources. This can be accomplished through the recruitment of graduates trained in technologies relevant to an industry's future and the creation of opportunities for collaboration between industrial and academic scientists and engineers. Academically well-trained students with exposure to advanced industrial issues constitute a critical component of success in that endeavor. To respond to the need for strengthened ties between academia and industry, Sea Grant developed the Sea Grant—Industry Fellowship Program (Industry Fellowship Program) in 1995.

For the FY 2002 competition new being announced, funds are available to award five new Industry Fellowships. Each fellow will be a graduate student selected through national competition, and will be known as a (Company Name)/Sea Grant Industry Fellow.

The goals of the Industry Fellowship Program are to (1) enhance the education and training provided to top graduate students in academic institutions in the United States and its territories; (2) provide real-world experience of industrial issues to graduate students and to accelerate their career development; (3) increase interactions between the nation's top scientists and engineers and their industrial counterparts; (4) accelerate the exchange of information and technologies between academic institutions and industry; (5) provide a mechanism for industry to influence Sea Grant research priorities and solve problems of importance to industry; and (6) forge long-term relationships between Sea Grant Colleges and industrial firms.

The Industry Fellowship Program, in cooperation with specific companies, provides support for highly-qualified graduate students who are pursuing research and development projects on topics of interest to a particular industry/company. The projects may be up to two years duration. In a true partnership, the student, the faculty advisor, the Sea Grant College or institute, and the industry representative work together on a project from beginning to end. Research facilities and the cost of the activity are shared. Academic institution faculty are the major source for identifying potential industrial collaborators and suitable research topics. However, other sources can be used to identify potential industrial partners including the Sea Grant Marine Advisory Services, university industrial relations offices, and the National Sea Grant Review Panel. Sea Grant directors are encouraged to use a variety of sources in building successful partnerships with industry.

Fellows must, for each year of their fellowship, provide a written summary of their accomplishments and activities during the preceding year to the Industry Fellowship Program Manager. This summary must accompany the request for each additional year's funding.

The award for each Industry Fellowship, contingent upon the availability of Federal funds, will be in the form of a grant of up to $30,000 per year from the NSGO; matching funds equal to at least 50 percent of the Federal request must also be provided by the industrial partner to support the budget for the proposed project.

III. Eligibility

A. Fisheries Fellowship Program

Any student may apply who is a United States citizen. At the time of application, prospective Population Dynamics Fellows must be admitted to a PhD degree program in population dynamics or a related field such as applied mathematics, statistics, or quantitative ecology at an academic institution in the United States or its territories, or submit a signed letter from the institution indicating provisional acceptance to a PhD degree program conditional on obtaining financial support such as this fellowship. At the time of application, prospective Marine Resource Economics Fellows must be in the process of completing at least two years of course work in a PhD degree program in natural resource economics or a related field at an academic institution in the United States or its territories.

B. Industry Fellowship Program

Applications must be prepared by individuals affiliated with academic institutions in the United States or its territories. A prospective Fellow must be enrolled or accepted in either an MS or PhD degree program in the institution which submits the application.

IV. Selection Criteria

A. Fisheries Fellowship Program

Selection criteria will include: (1) Relevant academic ability and achievement, particularly quantitative skills (35 percent); (2) demonstrated research ability in the discipline and appropriateness/importance of proposed thesis topic (30 percent); (3) expertise of major professor (20 percent); and (4) additional relevant experience (15 percent).

B. Industry Fellowship Program

Selection criteria will include: (1) The caliber of the prospective Fellow, including special skills, past experiences, or training that render him/her especially qualified for the proposed project; participation by the Fellow in proposal preparation will be viewed favorably (25 percent); (2) the benefit accruing to the student from his or her participation as a Sea Grant—Industry Fellow, including exposure to industrial methods and mentoring by the industrial partner (25 percent); (3) the level of commitment of the industrial partner to the project, as demonstrated by financial support, mentoring on technical and other issues such as industry trends, problems, and opportunities, offering exposure to an industrial setting, facilities/equipment, etc. (25 percent); and (4) the importantance of the problem and the benefits expected to the industrial partner and the nation due to the advancement of technology (25 percent).

V. Selection Procedures

Applications will be ranked in accordance with the above criteria and their assigned weights by independent review panels consisting of government, academic, and industry experts. The panel members will provide individual evaluations of each applicant, but there will be no consensus advice. Their recommendations and evaluations will be considered by the NSGO in the final selection. Only those applications receiving a minimum score of 50 percent by the panel will be eligible for funding. For those applications, the NSGO will: (1) Ascertain which best meet the objectives of the particular program (as stated in Section II. Descriptions of Programs); (2) give priority, in the case of Fisheries Fellowship applications to NMFS Fisheries Science Centers which do not currently have Fellows; and (3) select the applications to be funded. Accordingly, awards may not necessarily be made to the highest-scoring applications in each program or discipline therein. Applicants may be asked to modify objectives, work plans, or budgets prior to final approval of the award. Subsequent grant administration procedures will be in accordance with current NOAA grants procedures. A summary statement of the review of the application by the review panel will be provided to each applicant.

VI. Timetable

February 15, 2002, 5 pm (local time)—Applications due at state Sea Grant Program (or at NSGO, only if application is from an academic institution in a non-Sea Grant state).

February 20, 2002, 5 pm EST—Applications due at NSGO from state Sea Grant Programs.

June 1, 2002 (approximate)—Funds awarded for the Fisheries Fellowships.

September 1, 2002 (approximate)—Funds awarded for the Industry Fellowships.

Note that applications arriving after the above deadlines will be accepted for review only if the applicant can document that the application was provided to a delivery service that guaranteed delivery (see “Addresses” above) prior to the specified closing date and time; in any event, applications received by the NSGO or the state Sea Grant Programs later than two business days following the closing date will not be accepted. Facsimile transmissions and electronic mail submission of applications will not be accepted.

VII. Application Instructions

A. General Requirements

All printed pages in the application must be on metric A4 (210 mm × 297 mm) or 8.5″ × 11″ paper with at least a 10-point font. Applications must include the items listed below.

1. Signed Title Page: The title page must identify the prospective Fellow, be signed by the Faculty Advisor and the institutional representative, and provide complete contact information. The program area being addressed should be clearly identified by starting the project title with either “NMFS—Sea Grant Fisheries Fellowship” or “Sea Grant—Industry Fellowship”. The total amount of Federal and matching funds being requested for each project year must be listed.

2. Project Summary: The project summary should concisely describe the activity being proposed and the impact that would result from its successful completion, in a form suitable for publication. Applicants are encouraged to use the Sea Grant Project Summary Form 90-2, but may use their own form as long as it provides the same information as the Sea Grant form. The project summary should include: (a.) Title: Use the exact title as it appears in the rest of the application. (b.) Investigators: List the names and affiliations of each investigator who will significantly contribute to the project, starting with the Principal Investigator. For Sea Grant Fellowships, the faculty advisor or the state Sea Grant Director may be used. (c.) Funding request for each year of the Fellowship, including matching funds if appropriate. (d.) Project Period: Start and completion dates. Applications for a Fisheries Fellowship should request a start date of July 1, 2002, and applications for an Industry Fellowship should request a start date of September 1, 2002. (e.) Project Abstract: This should include the rationale for the proposed activity, the scientific or technical objectives and/or hypotheses to be tested, and a brief summary of the work to be completed.

3. Budget and Budget Justification: There should be a separate budget for each year as well as a cumulative annual budget for the entire period of the proposed fellowship. The Sea Grant Budget Form 90-4 should preferably be used, but the institution may use its own form as long as it provides the same information as the Sea Grant form. Sub-contractors should have a separate budget page. Indirect costs are not allowable for either the fellowship or for any costs associated with fellowship (15 CFR 917.11(e), “Guidelines for Sea Grant Fellowships”).

For Fisheries Fellows: Matching funds equivalent to 50 percent of the NSGO funds must be provided by the Fellow's institution. Allocation of matching funds must be specified in the budget and may consist of up to one/half month's salary for the faculty adviser, waived tuition, equipment and supplies, and any other costs typically used as matching funds. In addition to stipend and tuition for the applicant, the budget should include funds for equipment, supplies, and travel (see “Description of Programs” above).

For Industry Fellows: Matching funds equivalent to 50 percent of the NSGO funds must be provided by the industrial partner. Allocation of matching funds must be specified in the budget. The budget should include adequate travel funds for the Fellow, the industrial mentor, and the faculty advisor to meet at least twice per year during the fellowship period, preferably at the site of the industrial partner. The budget may also include up to one month of salary or stipend support for the faculty advisor or one other project participant, in addition to the Fellow, who is affiliated with the academic institution.

4. Curriculum vitae of the student, the faculty advisor, and NMFS or company-appointed research mentor (2-page maximum per investigator).

5. Signed letter of commitment from the prospective NMFS mentor or industrial partner.

6. Official copies of all undergraduate and graduate student transcripts.

7. Additional Material for Fisheries Fellowship Program only:

a. Education and career goal statement (not to exceed two pages) from the student indicating the number of years for which fellowship support is being sought and the student's interest in (a) marine population dynamics or the development and implementation of quantitative methods for assessing stock status of living marine resources, or (b) in marine resource economic (a summary of the proposed thesis or the general intended area of study should be included, if available).

b. Three signed letters of recommendation, including one from the student's faculty adviser.

c. Proof of application, acceptance, provisional acceptance, and enrollment (only for Population Dynamics applicants) in the case of students entering graduate school (i.e., who have not yet completed one semester of graduate work) if they are selected for a fellowship.

8. Additional Material for Industry Fellowship Program only:

a. Project Description (10-page limit): Brevity will assist reviewers and program staff in dealing effectively with applications. Therefore, the Project Description may not exceed 10 pages. Tables and visual materials, including charts, graphs, maps, photographs, and other pictorial presentations, are included in the 10-page limitation; literature citations are not included in the 10-page limitation. Conformance to the 10-page limitation will be strictly enforced. All information needed for review of the application should be included in the main text; no appendices are permitted.

Introduction/Background/Justification: What is the problem being addressed and what is its scientific and economic importance to the advancement of technology, to the cooperating industrial partner, and to the region or nation?

Research or Technical Plan: What are the goals, objectives, and anticipated approach of the proposed project? While a detailed work plan is not expected, the application should present evidence that there has been thoughtful consideration of the approach to the problem under study. What capabilities does the industrial partner possess that will benefit the Fellow?

Output/Anticipated Economic Benefits: Upon successful completion of the project, what are the anticipated benefits to the student, the industrial partner, the academic institution and its faculty, the sponsoring Sea Grant Program, and the nation?

References and Literature Citations: Should be included, but will not be counted in the 10-page project description limit.

b. A brief (1-page) description of the collaborating industrial firm.

VIII. How To Submit

Ten (10) copies of applications must be submitted to the state Sea Grant Programs or to the NSGO according to the schedule outlined above (See “Addresses” and “Timetable”). The addresses of the state Sea Grant College Programs may be found at the following Internet web site: (http://www.nsgo.seagrant.org/SGDirectors.html), or may be obtained by contacting Mr. Joseph Brown at the NSGO (tel: 301-713-2438 × 135). Applications sent to the NSGO should be addressed to: National Sea Grant Office, R/SG, Attn: Mrs. Geraldine Taylor, Applications Processing, Room 11732, NOAA, 1315 East-West Highway, Silver Spring, MD 10910 (telephone number for express mail applications is 301-713-2445). Facsimile transmissions and electronic mail submission of applications will not be accepted.

IX. Other Requirements

The Department of Commerce Pre-Award Notification Requirements for Grants and Cooperative Agreements contained in the Federal Register notice of October 1, 2001 (66 FR 49917) are applicable to this solicitation. The Federal Register notice also lists the forms required to complete the standard Department of Commerce grant application package, but those forms will be required only for those applicants who have been recommended for funding. Unsuccessful applications will be held in the National Sea Grant Office for a period of five (5) years and then destroyed. Applications under this program are not subject to Executive Order 12372, “Intergovernmental Review of Federal Programs.”

Pursuant to Executive Orders 12876, 12900, and 13021, the Department of Commerce, National Oceanic and Atmospheric Administration (DOC/NOAA) is strongly committed to broadening the participation of Historically Black Colleges and Universities (HBCU), Hispanic Serving Institutions (HSI), and Tribal Colleges and Universities (TCU) in its educational and research programs. The DOC/NOAA vision, mission, and goals are to achieve full participation by Minority Serving Institutions (MSI) in order to advance the development of human potential, to strengthen the nation's capacity to provide high-quality education, and to increase opportunities for MSIs to participate in and benefit from Federal Financial Assistance programs. DOC/NOAA encourages all applicants to include meaningful participation of MSIs. Institutions eligible to be considered MSIs are listed at the following Internet web site: http://www.ed.gov/offices/OCR/minorityinst.html.

This notice contains collection-of-information requirements subject to the Paperwork Reduction Act. The use of NOAA Forms 90-2 and 90-4, or equivalents, has been approved by OMB under the control number 0648-0362. Public reporting burden for these collections of information is estimated to average 20 minutes for a NOAA Form 90-2 and 15 minutes for a NOAA Form 90-4. These response times include the time for reviewing instructions, searching existing data sources, gathering and maintaining the data needed, and completing and reviewing the collection of information. Send comments regarding this burden estimate, or any other aspect of this data collection, including suggestions for reducing the burden, to the National Sea Grant Office (see the FOR FURTHER INFORMATION CONTACT section).

Notwithstanding any other provision of law, no person is required to respond to, nor shall any person be subject to a penalty for failure to comply with, a collection of information subject to the Paperwork Reduction Act, unless that collection displays a currently valid OMB control number.

X. Classification

It has been determined that this notice is not significant for purposes of E.O. 12866.

It has been determined that this notice does not contain policies with Federalism implications as the term is defined in EO 13132.

Because notice and comment are not required under 5 U.S.C. 553, or any other law, for notices relating to public property, loans, grants, benefits or contracts (5 U.S. C. 553(a)), a Regulatory Flexibility Analysis is not required and had not been prepared for this notice, 5 U.S.C. 601 et seq.

David L. Evans,
Assistant Administrator, Office of Oceanic and Atmospheric Research, National Oceanic and Atmospheric Administration.
John E. Herring,
Acting Director, Officer of Science and Technology, National Marine Fisheries Service, National Oceanic and Atmospheric Administration.

[FR Doc. 02-514 Filed 1-8-02; 8:45 am]

BILLING CODE 3510-KA-M